NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by January 2, 2018. This application may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541, 45 CFR part 671), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2018-027

1. Applicant: Bradford Clement, JOIDES Resolution Science Operator, International Ocean Discovery Program, Texas A&M University, College Station, TX 77845.

Activity for Which Permit is Requested: Waste Management. The applicant is seeking a waste management permit for activities associated with conducting four International Ocean Discovery Program (IODP) expeditions in the Antarctic and Southern Ocean waters. The applicant proposes to release or potentially release beacon weights, drilling mud, rotary core barrel coring bits, free fall funnels/re-entry cones, borehole casing, wiper pigs, and small amounts of fluorescent microspheres as a result of the normal operations of the JOIDES Resolution ocean drilling ship. Other standard hardware lowered below or over the side of the vessel would be retrieved, but may be subject to unintentional release.

Location: Ross Sea, Amundsen Sea, Scotia Sea, Southern Ocean, Antarctica.

Dates of Permitted Activities: January 4, 2018-July 20, 2019.

Permit Application: 2018-029

2. Applicant: Stephen C. Riser, School of Oceanography, University of Washington, Seattle WA 98195.

Activity for Which Permit is Requested: Waste Management. The applicant proposes to release five Argo floats in the Southern Ocean in the general vicinity of 0 degrees (the Date Line) and 65 degrees South, in the Weddell Sea. The floats will be deployed from the German research vessel Polarstern. These floats will collect profiles of temperature and salinity as a function of pressure in the upper 2000 m of the water column at 10-day intervals, and drift at a depth of 1000 m between profiles. Each float will transmit a file of data consisting of temperature, salinity, and dissolved oxygen from depths of 0-2000 m in the water column at 10 day intervals. The floats will continue to operate in this manner over a period of 5-6 years. The floats are fabricated with aluminum hulls and contain lithium batteries. The data that they product has been crucial to assessing warming and climate change in the Southern Ocean and Antarctic. The data will be publicly available in near real-time from the Argo Global Data Assembly Center.

Location: Weddell Sea, Antarctica.

Dates of Permitted Activities: January 1-March 31, 2018.

Nadene G. Kennedy,
Polar Coordination Specialist, Office of Polar Programs.

[FR Doc. 2017-25853 Filed 11-30-17; 8:45 am]

BILLING CODE 7555-01-P